DEPARTMENT OF TRANSPORTATION

Federal Aviation Administration

Advisory Circular (AC) 23-16A, Powerplant Guide for Certification of Part 23 Airplanes and Airships

AGENCY: Federal Aviation Administration, DOT.

ACTION: Notice of issuance of advisory circular.

SUMMARY: This notice announces the issuance of Advisory Circular (AC) 23-16A, Powerplant Guide for Certification of Part 23 Airplanes and Airships. The intent of this AC is to standardize certification of powerplant installations in normal, utility, acrobatic, and commuter category airplanes and airships. It consolidates existing policy and certain other advisory circulars published prior to December 31, 2002, into a single document. The AC notes the guidance considered acceptable as a means of compliance with the Airship Design Criteria (ADC) requirements in document FAA-P-8110-2. The material in the advisory circular is intended as a reference for airplane and airship manufacturers, modifiers, and FAA engineers. The AC cancels AC 23-16.

DATES: Advisory Circular 23-16A was issued by the Manager of the Small Airplane Directorate on February 23, 2004.

How to Obtain Copies: A paper copy of AC 23-16A may be obtained by writing to the U.S. Department of Transportation, Subsequent Distribution Office, DOT Warehouse, SVC-121.23, Ardmore East Business Center, 3341Q 75th Avenue, Landover, MD 20785, telephone 301-322-4779, or by faxing your request to the warehouse at 301-386-5394. The AC will also be available on the Internet at http://www.faa.gov/certification/aircraft/.

Issued in Kansas City, Missouri, on February 26, 2004.
James E. Jackson,
Acting Manager, Small Airplane Directorate, Aircraft Certification Service.

[FR Doc. 04-6147 Filed 3-18-04; 8:45 am]

BILLING CODE 4910-13-P